DEPARTMENT OF ENERGY

Federal Energy Regulatory Commission

Combined Notice of Filings

Take notice that the Commission has received the following Natural Gas Pipeline Rate and Refund Report filings:

Filings Instituting Proceedings

Docket Numbers: RP17-638-000.

Applicants: Texas Gas Transmission, LLC.

Description: Texas Gas Transmission, LLC submits tariff filing per 154.204: Cap Rel Neg Rate Agmts (SABIC 35303, 304, 305 to CIMA 36089, 105, 088) to be effective 4/3/2017.

Filed Date: 04/04/2017.

Accession Number: 20170404-5020.

Comment Date: 5:00 p.m. Eastern Time on Monday, April 17, 2017.

Docket Numbers: RP17-639-000.

Applicants: Texas Gas Transmission, LLC.

Description: Texas Gas Transmission, LLC submits tariff filing per 154.204: Cap Rel Neg Rate Agmt (Gulfport 35446 to Eco-Energy 36159) to be effective 4/4/2017.

Filed Date: 04/04/2017.

Accession Number: 20170404-5023.

Comment Date: 5:00 p.m. Eastern Time on Monday, April 17, 2017.

Docket Numbers: RP17-640-000.

Applicants: Equitrans, L.P.

Description: Equitrans, L.P. submits tariff filing per 154.203: Notice Regarding Non-Jurisdictional Gathering Facilities (W-7744 E-1300).

Filed Date: 04/04/2017.

Accession Number: 20170404-5125.

Comment Date: 5:00 p.m. Eastern Time on Monday, April 17, 2017.

Docket Numbers: RP17-641-000.

Applicants: Rockies Express Pipeline LLC.

Description: Rockies Express Pipeline LLC submits tariff filing per 154.204: Neg Rate 2017-04-04 Encana, CP to be effective 4/4/2017.

Filed Date: 04/04/2017.

Accession Number: 20170404-5215.

Comment Date: 5:00 p.m. Eastern Time on Monday, April 17, 2017.

Docket Numbers: RP17-642-000.

Applicants: Texas Gas Transmission, LLC.

Description: Texas Gas Transmission, LLC submits tariff filing per 154.204: Cap Rel Neg Rate Agmt (Gulfport 35446 to BP 36166) to be effective 4/4/2017.

Filed Date: 04/04/2017.

Accession Number: 20170404-5239.

Comment Date: 5:00 p.m. Eastern Time on Monday, April 17, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2017.
Kimberly D. Bose,
Secretary.

[FR Doc. 2017-07267 Filed 4-10-17; 8:45 am]

BILLING CODE 6717-01-P